DEPARTMENT OF ENERGY

Federal Energy Regulatory Commission

[Project No. 14728-000]

Pyramid Lake Paiute Tribe; Notice of Preliminary Permit Application Accepted for Filing and Soliciting Comments, Motions To Intervene, and Competing Applications

On November 3, 2015, the Pyramid Lake Paiute Tribe filed an application for a preliminary permit, pursuant to section 4(f) of the Federal Power Act (FPA), proposing to study the feasibility of the Boca Hydroelectric Project (Boca Hydroelectric Project or project) to be located on the Bureau of Reclamation's Boca Dam on the Little Truckee River, near the town of Truckee, Nevada County, California. The sole purpose of a preliminary permit, if issued, is to grant the permit holder priority to file a license application during the permit term. A preliminary permit does not authorize the permit holder to perform any land-disturbing activities or otherwise enter upon lands or waters owned by others without the owners' express permission.

Boca Reservoir has a usable storage capacity of 40,900 acre-feet at the normal maximum elevation of 5,601 feet. The proposed project would utilize the existing intake structure in Boca Reservoir and the two 375-foot long, 50-inch steel conduits. The existing 50-inch primary outlet pipes would be modified to remove the existing 42-inch hollow jet valves and to add bifurcations that would connect to the proposed new penstocks.

The proposed project would also consist of the following new facilities: (1) Two new penstocks that connect the existing 50-inch primary outlet pipes to a new 60-inch-diameter penstock via isolation valves to allow flow to be conveyed to the powerhouse from either or both outlet pipes; (2) a 45-foot-long by 45-foot-wide by 40-foot-high powerhouse containing a single Kaplan generating unit rated for 1.6 megawatts at 60 feet of head; (3) a 20 to 40-foot-long tailrace channel that discharges water downstream of the existing outlet channel walls approximately 140 feet from the existing hollow jet valves; (4) a channel training wall consisting of either a sheet pile tied-back channel wall or a concrete cantilever type wall leaving the powerhouse on the landside of the tailrace channel; (5) a step-up transformer installed at the powerhouse generator in order to wheel power onto the grid; (6) a new 700-foot long 12-kilovolt (kV) transmission line to interconnect to an existing 12-kV transmission line owned by Liberty Utilities (the point of interconnection); and (7) appurtenant facilities.

The Pyramid Lake Paiute Tribe proposes to develop the proposed project in conformance with the operation of Boca Dam by the Bureau of Reclamation under the terms of the Truckee River Operating Agreement (TROA) and would generate electricity using the existing flow releases under the terms of the TROA. The Pyramid Lake Paiute Tribe does not propose to alter the timing, condition or the amount of releases from Boca Reservoir or impair any of the current functions supported by operation of this existing multi-purpose water resources project. The estimated annual generation of the Boca Hydroelectric Project would be 3.5 gigawatt-hours.

Applicant Contact: Ms. Donna Noel, Director of Natural Resources, Pyramid Lake Paiute Tribe, P.O. Box 256, Nixon, Nevada 89424; phone: (775) 574-1000.

FERC Contact: Kyle Olcott; phone: (202) 502-8963.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14728-000.

More information about this project, including a copy of the application, can be viewed or printed on the “eLibrary” link of Commission's Web site at http://www.ferc.gov/docs-filing/elibrary.asp. Enter the docket number (P-14728) in the docket number field to access the document. For assistance, contact FERC Online Support.

Dated: February 12, 2016.
Nathaniel J. Davis, Sr.,
Deputy Secretary.

[FR Doc. 2016-03621 Filed 2-22-16; 8:45 am]

BILLING CODE 6717-01-P